DEPARTMENT OF HOMELAND SECURITY

Coast Guard

33 CFR Part 110

[CGD01-06-027]

RIN 1625-AA01

Anchorage Regulations; Port of New York

AGENCY: Coast Guard, DHS.

ACTION: Notice of proposed rulemaking.

SUMMARY: The Coast Guard proposes to revise the duration vessels are authorized to anchor in specific anchorage grounds within the Port of New York and New Jersey (PONYNJ). This proposed action is necessary to facilitate safe navigation and provide for the overall safe and efficient flow of waterborne commerce. This proposed action is intended to better facilitate the efficient use of the limited deep water anchorage grounds available in PONYNJ.

DATES: Comments and related material must reach the Coast Guard on or before December 18, 2006.

ADDRESSES: You may mail comments and related material to Waterways Management Division (CGD01-06-027), Coast Guard Sector New York, 212 Coast Guard Drive, Room 321, Staten Island, New York 10305. The Waterways Management Division of Coast Guard Sector New York maintains the public docket for this rulemaking. Comments and material received from the public, as well as documents indicated in this preamble as being available in the docket, will become part of this docket and will be available for inspection or copying at room 321, Coast Guard Sector New York, between 8 a.m. and 3 p.m., Monday through Friday, except Federal holidays.

FOR FURTHER INFORMATION CONTACT: Lieutenant Commander M. McBrady, Waterways Management Division, Coast Guard Sector New York at (718) 354-2353.

SUPPLEMENTARY INFORMATION:

Request for Comments

We encourage you to participate in this rulemaking by submitting comments and related material. If you do so, please include your name and address, identify the docket number for this rulemaking (CGD01-06-027), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Management Division at the address under ADDRESSES explaining why one would be beneficial. If we determine that one would aid this rulemaking, we will hold one at a time and place announced by a later notice in the Federal Register.

Background and Purpose

The Coast Guard proposes to revise the duration that vessels are authorized to anchor in Federal Anchorage Grounds 19, 21-A, 21-B, 21-C, and 25 in the PONYNJ. These proposed revisions are necessary due to the limited amount of deep water anchorage space available in the Hudson River, Upper and Lower Bay of New York Harbor.

In recent years, as the number of ships in port has increased and their sizes have grown, the anchorage grounds have frequently been filled to capacity. According to the Harbor Safety, Operations, and Navigation Committee of the Port of New York and New Jersey (HAROPS), which represents a broad spectrum of the local maritime industry, having adequate anchorage space is critical to the overall safety and economic vitality of the port. The limited availability of anchorage space has caused undue economic burden for ships that are forced to anchor outside the port in the vicinity of Ambrose Tower, sometimes for days, while awaiting anchorage space. Vessels have been unable to complete their business, including re-supply, lightering, and bunkering, in a cost-efficient manner and sometimes have forgone obtaining services in New York because of the delays. The unavailability of anchorage space also increases safety risks by forcing ships to take on provisions while underway and potentially preventing ships from anchoring in an emergency.

The proposed revisions would increase the availability of anchorage space by reducing the amount of time that a vessel may remain at anchor. The revisions would also limit the number vessels from loitering in the lower Hudson River, Bay Ridge, and Gravesend Bay anchorages.

Discussion of Proposed Rule

The proposed rule would establish a 96-hour limit on the duration of stay for vessels anchoring in Federal Anchorage Grounds 19, 21-A, 21-B, 21-C, and 25. Currently, 33 CFR 110.155(k)(3) establishes an impractical anchorage duration of 30 days. We note that the 48-hour limit for anchoring in Stapleton Anchorage (Federal Anchorage Grounds 23-A, 23-B, and 24) and Federal Anchorage Ground 44 would remain the same and not be affected by this proposed rule.

Implementing this time restriction for the lower Hudson River, Bay Ridge, and Gravesend Bay anchorage grounds will provide for the effective use of this valuable and limited port resource, thus, minimizing vessel delays. The affected Anchorage Grounds would continue to be managed by the Coast Guard Vessel Traffic Service New York (VTS). As part of their anchorage management function, VTS New York will make decisions on requests to extend a vessel's stay at an anchorage beyond the prescribed duration limit.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. This finding is based on the following facts:

This proposal would allow the Coast Guard to better manage the increasing and changing needs of commercial vessels and to make the best use of the limited available Anchorage Grounds. Vessels normally complete bunkering or lightering operations within the Anchorage Grounds within 48 hours. Additionally, due to security concerns at facilities, more vessels need to replenish supplies while at anchor, which normally takes no longer than 8 hours. This proposal would allow shipping lines, owners, agents, and others in the shipping industry to operate more efficiently in the Port of New York and New Jersey.

The current 30-day limit for vessels to remain at anchor is an inefficient use of the limited, extremely busy Anchorage Grounds within the PONYNJ since vessels not conducting port related operations could easily anchor offshore while awaiting pier space, supply deliveries, sailing orders, etc. Additionally, this proposal would allow the commercial vessel industry to more efficiently conduct final preparations for sea in a protected Anchorage Ground, as opposed to conducting preparations during outbound transit in the vicinity of the six vessel traffic lanes that converge on Ambrose Light (LLNR 720). This proposed rule is in the interest of safe and efficient navigation.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of commercial vessels intending to anchor in a portion of the Hudson River, Upper New York Bay, or Lower New York Bay. This proposal, however, would not have a significant economic impact on these entities for the reasons stated above in the Regulatory Evaluation section.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Commander M. McBrady, Waterways Management Division, Coast Guard Sector New York at (718) 354-2353. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, paragraph (34)(f), of the Instruction, from further environmental documentation. This rule fits the category selected from paragraph (34)(f) as it would revise the duration a vessel could anchor in a Federal Anchorage Ground.

A preliminary “Environmental Analysis Check List” is available in the docket where indicated under ADDRESSES. Comments on this section will be considered before we make the final decision on whether the rule should be categorically excluded from further environmental review.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471; 1221 through 1236, 2030, 2035 and 2071; 33 CFR 1.05-1(g); and Department of Homeland Security Delegation No. 0170.1.

2. Amend § 110.155 by adding paragraphs (c)(5)(vi), (d)(10)(ii), (d)(11)(iii), (d)(12)(iii), and (e)(1)(iii), to read as follows:

§ 110.155 Port of New York.

* * * * *

(c) * * *

(5) * * *

(vi) No vessel may occupy this anchorage for a period of time in excess of 96 hours without prior approval of the Captain of the Port.

* * * * *

(d) * * *

(10) * * *

(ii) No vessel may occupy this anchorage for a period of time in excess of 96 hours without prior approval of the Captain of the Port.

(11) * * *

(iii) No vessel may occupy this anchorage for a period of time in excess of 96 hours without prior approval of the Captain of the Port.

(12) * * *

(iii) No vessel may occupy this anchorage for a period of time in excess of 96 hours without prior approval of the Captain of the Port.

* * * * *

(e) * * *

(1) * * *

(iii) No vessel may occupy this anchorage for a period of time in excess of 96 hours without prior approval of the Captain of the Port.

* * * * *

Dated: October 30, 2006.
Timothy S. Sullivan,
Rear Admiral, U.S. Coast Guard, Commander, First Coast Guard District.

[FR Doc. E6-19314 Filed 11-15-06; 8:45 am]

BILLING CODE 4910-15-P